DEPARTMENT OF ENERGY

Federal Energy Regulatory Commission

[Project No. 2266-102; Project No. 2310-193; Project No. 14530-000; Project No. 14531-000]

Nevada Irrigation District; Pacific Gas and Electric Company; Public Meetings Soliciting Comments on the Draft Environmental Impact Statement for the Drum-Spaulding and Yuba-Bear Hydroelectric Projects

On May 17, 2013, the Commission issued a Notice of Availability of the Draft Environmental Impact Statement for the Drum-Spaulding and Yuba-Bear Hydroelectric Projects. The draft EIS documents the views of governmental agencies, non-governmental organizations, affected Indian tribes, the public, the license applicants, and Commission staff. All written comments must be filed by August 22, 2013, and should reference Project Nos. 2266-102, 2310-193, 14530-000, and 14531-000. More information on filing comments can be found in the letter at the front of the draft EIS or on the Commission's Web site at http://www.ferc.gov/docs-filing/efiling.asp. Although the Commission strongly encourages electronic filing, documents may also be paper-filed.

In addition to or in lieu of sending written comments, you are invited to attend public meetings that will be held to receive comments on the draft EIS. The daytime meeting will focus on resource agency, Indian tribes, and non-governmental organization comments, while the evening meeting is primarily for receiving input from the public. All interested individuals and entities are invited to attend one or both of the public meetings. The time and location of the meetings are as follows:

Date: Wednesday, August 14, 2013.

Time: Daytime meeting—9 a.m.; Evening meeting—7 p.m.

Place: Holiday Inn, Auburn, California.

Address: 120 Grass Valley Highway, Auburn, California 95603, 530-887-8787.

At this meeting, resource agency personnel and other interested persons will have the opportunity to provide oral and written comments and recommendations regarding the draft EIS. The meeting will be recorded by a court reporter, and all statements (verbal and written) will become part of the Commission's public record for the project. This meeting is posted on the Commission's calendar located at http://www.ferc.gov/EventCalendar/EventsList.aspx along with other related information.

For further information, contact Alan Mitchnick at (202) 502-6074 or at alan.mitchnick@ferc.gov.

Dated: July 10, 2013.
Kimberly D. Bose,
Secretary.

[FR Doc. 2013-16996 Filed 7-15-13; 8:45 am]

BILLING CODE 6717-01-P